CONSUMER PRODUCT SAFETY COMMISSION

Sunshine Act Meeting

TIME AND DATE: Wednesday, June 25, 2025-10:00 a.m.

PLACE: The meetings will be held remotely, and in person at 4330 East West Highway, Bethesda, Maryland, 20814.

STATUS: Commission Meeting—Open to the Public.

MATTER TO BE CONSIDERED:

Briefing Matter (10:00 a.m.): Mid-Year Decisional.

To register and attend remotely, please use the following link: https://events.gcc.teams.microsoft.com/event/de2fd89a-a5f9-4719-bfed-a41a33a5f525@7f5de26c-a63d-475c-9b6c-4126a914e132.

CONTACT PERSON FOR MORE INFORMATION: Alberta E. Mills, Office of the Secretary, U.S. Consumer Product Safety Commission, 4330 East West Highway, Bethesda, MD 20814, 301-504-7479 (Office) or 240-863-8938 (Cell).

Dated: June 17, 2025.
Elina Lingappa,
Paralegal Specialist.

[FR Doc. 2025-11416 Filed 6-17-25; 4:15 pm]

BILLING CODE P